SURFACE TRANSPORTATION BOARD

[Docket No. FD 36151]

Foxville and Northern Railroad Company LLC—Lease and Operation Exemption—Badin Business Park, LLC

Foxville and Northern Railroad Company LLC (FN), a noncarrier, filed a verified notice of exemption under 49 CFR 1150.31 to lease from Badin Business Park LLC (BBP) ¹ and operate approximately 11.11 miles of rail line from milepost WF-0.0 in Halls Ferry Junction, to milepost WF-11.11 in Badin, all in Stanly County, N.C. (the Line). FN and Winston Salem Southbound Railroad (WSSB) will interchange traffic at milepost WF-5.90 in Whitney.

¹ FN states that BBP is a wholly owned subsidiary of Alcoa, Inc.

According to FN, two agreements govern the proposed transaction: (i) A lease agreement; and (ii) an interchange agreement. Specifically, FN anticipates entering into a lease agreement with BBP on or about August 1, 2018, and an interchange agreement with WSSB upon obtaining operating authority.

FN certifies that its projected annual revenues as a result of the transaction will not result in its becoming a Class II or Class I rail carrier and will not exceed $5 million. FN also certifies that the transaction involves no provision or agreement that may limit future interchange with other carriers under 49 CFR 1150.33(h).

The transaction may be consummated on or after August 23, 2018, the effective date of the exemption (30 days after the verified notice of exemption was filed).

If the verified notice contains false or misleading information, the exemption is void ab initio. Petitions to revoke the exemption under 49 U.S.C. 10502(d) may be filed at any time. The filing of a petition to revoke will not automatically stay the effectiveness of the exemption. Petitions for stay must be filed no later than August 16, 2018 (at least seven days before the exemption becomes effective).

An original and 10 copies of all pleadings, referring to Docket No. FD 36151, must be filed with the Surface Transportation Board, 395 E Street SW, Washington, DC 20423-0001. In addition, a copy of each pleading must be served on John E. Elkin, President and General Manager, Foxville and Northern Railroad Co. LLC., P.O. Box 577, Pelion, SC 29123.

According to FN, this action does not require environmental review under 49 CFR 1105.6(c) or historic reporting under 49 CFR 1105.8(b).

Board decisions and notices are available on our website at “WWW.STB.GOV.”

Decided: August 6, 2018.
By the Board, Scott M. Zimmerman, Acting Director, Office of Proceedings.
Jeffrey Herzig,
Clearance Clerk.

[FR Doc. 2018-17067 Filed 8-8-18; 8:45 am]

BILLING CODE 4915-01-P